DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by November 15, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (addresses above).

PRT-093272

Applicant: Thomas L. Scott, Wrightsville, PA

The applicant requests a permit to import the sport-hunted trophy of one male bontebok (Damaliscus pygargus pygargus) culled from a captive herd maintained under the management program of the Republic of South Africa, for the purpose of enhancement of the survival of the species.

PRT-093281

Applicant: George R. Fusner, Jr., Brentwood, TN

The applicant requests a permit to import the sport-hunted trophy of one male bontebok (Damaliscus pygargus pygargus) culled from a captive herd maintained under the management program of the Republic of South Africa, for the purpose of enhancement of the survival of the species.

PRT-092526

Applicant: Rosamond Gifford Zoo at Burnet Park, Syracuse, NY

The applicant requests a permit to export semen samples from captive held Asian elephant (Elephas maximus) to the University of Ontario, Guelph, Ontario, Canada for the purpose of scientific research.

PRT-093171

Applicant: William L. Heubaum, Yankton, SD

The applicant requests a permit to import the sport-hunted trophy of one male black-faced impala (Aepyceros melampus petersi) taken in Namibia, for the purpose of enhancement of the survival of the species.

PRT-091943

Applicant: Clyde R. Robinson, Jr., Ballston Spa, NY

The applicant requests a permit to import three pair of captive hatched Hawaiian ducks (Anas wyvilliana) for the purpose of captive propagation.

PRT-094332

Applicant: Arizona State University/Department of Anthropology, Tempe, AZ

The applicant requests a permit to authorize the import of biological samples from wild, captive-held, and captive-born chimpanzees (Pan troglodytes), pygmy chimpanzees (Pan paniscus), gorilla (Gorilla gorilla), and orangutan (Pongo pygmaeus) from various countries for the purpose of scientific research. This notification covers activities to be conducted by the applicant over a five-year period.

PRT-090787, 090788 to 090803.

Applicant: Feld Entertainment, Vienna, VA

The applicant requests permits to import seven male and nine female bengal tigers (Panthera tigris) for the purpose of enhancement of the species through conservation education. The permit numbers and animals are 090787—Sahib, 090788—Calcutta, 090790—Lola, 090791—Mysore, 090792—Khan, 090793—Royal, 090794—Gorg, 090795—Isa, 090796—Savona, 090797—Zambra, 090798—Susy, 090799—Sultan, 090800-Lilly, 090801—Ayora, 090802—Bali, 090803—Sultan. This notification covers activities to be conducted by the applicant over a three-year period and the re-export of any potential progeny born while within the United States. The re-export of the tigers will be published at a later date.

Marine Mammals

The public is invited to comment on the following applications for a permit to conduct certain activities with marine mammals. The applications were submitted to satisfy requirements of the Marine Mammal Protection Act of 1972, as amended (16 U.S.C. 1361, et seq.), and the regulations governing marine mammals (50 CFR part 18). Written data, comments, or requests for copies of the complete applications or requests for a public hearing on these applications should be submitted to the Director (address above). Anyone requesting a hearing should give specific reasons why a hearing would be appropriate. The holding of such a hearing is at the discretion of the Director.

PRT-093627

Applicant: William D. Hober, Easton, CT

The applicant requests a permit to import a polar bear (Ursus maritimus) sport hunted from the Foxe Basin polar bear population in Canada prior to February 18, 1997, for personal use.

PRT-092340

Applicant: Guy P. Ferraro, Union Beach, NJ

The applicant requests a permit to import a polar bear (Ursus maritimus) sport hunted from the Viscount Melville Sound polar bear population in Canada for personal use on September 7, 2004, (69 FR 54149).

Dated: October 1, 2004.
Michael L. Carpenter,
Senior Permit Biologist, Branch of Permits, Division of Management Authority.

[FR Doc. 04-23129 Filed 10-14-04; 8:45 am]

BILLING CODE 4310-55-P